DEPARTMENT OF HEALTH AND HUMAN SERVICES

Centers for Disease Control and Prevention

[30Day-15-15LB]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

Enhancing Dialogue and Execution of Dust Reduction Behaviors through Workgroup Communication—New—National Institute for Occupational Safety and Health (NIOSH), Centers for Disease Control and Prevention (CDC).

Background and Brief Description

NIOSH, under Public Law 91-596, Sections 20 and 22 (Section 20-22, Occupational Safety and Health Act of 1977) has the responsibility to conduct research relating to innovative methods, techniques, and approaches dealing with occupational safety and health problems.

This project focuses on mineworkers' overexposure to respirable coal dust and how using the Continuous Personal Dust Monitor (CPDM), as an educational tool, can help provide information to mineworkers and their respective workgroups and shift leaders (i.e., frontline supervisors, shift foremen, etc), about ways to reduce respirable coal dust exposure in their work environment. NIOSH proposes a three-year approval for a project that seeks to understand what group communication practices are important for mineworker H&S and how those practices can be developed, implemented, and maintained over time. The following questions guide this study: What impact does a communication/technology intervention model that was designed and implemented have on: (1) Workers' health/safety behaviors, including those that lower exposure to dust; (2) workers' perceptions of their organizations' health and safety values; and (3) the types of health and safety management practices identified and utilized by mine site leaders to support workers' health/safety behaviors?

To answer the above questions, NIOSH researchers developed an intervention that focuses on workers' communication about and subsequent actions taken to reduce respirable dust exposure over time, using information provided by their Continuous Personal Dust Monitor (CPDM). The intervention will inform how workgroups communicate with each other and their shift supervisor about health and how this communication impacts individual behavior such as corrective dust actions taken by workers.

A new rule (CFR part 70) that passed May 1, 2014, requires mine operators to use CPDMs by February 1, 2016, for designated occupations. Continuous Personal Dust Monitors are wearable devices that provide miners with near real-time feedback about their level of respirable coal dust exposure. However, they do not ensure that miners will use the information to reduce their level of exposure. With the stricter regulations that just passed the opportunity to proactively improve communication around the CPDM and identify appropriate corrective actions, as required by the Mine Health and Safety Administration, is favorable.

In response, an intervention was designed to involve workers in the interpretation of CPDM feedback and discuss, with their coworkers/workgroups and respective shift leaders, potential changes to work practices that can decrease exposure to respirable coal mine dust. Data is collected no more than three times throughout a six-week study period (i.e., pre, mid, and post assessments). Data collection includes a pre/post survey and focus groups with workers and site leaders. These focus groups function as “safety circles.” Safety circles are used to communicate and encourage specific behavior changes. A typical circle includes a facilitator or leader (who directs the meetings), 7-10 members, and one-hour weekly meetings that take place during the workday.

NIOSH proposes this intervention design at no less than three but no more than five coal mine sites. Coal mine sites will be recruited who have inquired interest in learning how to improve utility of the CPDM on their site and/or interest in improving their employees' communication efforts. Only a small sample of workers will participate at each mine site because of the time required for completion and to ensure the longitudinal data can be adequately collected over the six weeks. In other words, we would rather collect data multiple times with the same worker and have fewer participants than collect data from more workers but not have the ability to appropriately follow-up during the subsequent visits.

Data collection will take place over three years. The respondents targeted for this study include any active mine worker and any active site leader at a coal mine site. It is estimated that a sample of up to 150 mine workers will participate, which includes participating in three focus groups (in the form of safety circle workgroup meetings) that will take approximately 60 minutes. The 60 minutes includes a 30 minute discussion and the completion of a focus group worksheet and at one point, a dust control worksheet. The focus groups will debrief general CPDM data so participants can dialogue about ways to lower their exposure levels. In addition, workers will be asked to complete a pre and post survey (~15 minutes). It also is estimated that a sample of up to nine mine site leaders will participate in the form of interviews/focus groups about HSMS practices at the same mining operations which have agreed to participate, and complete a dust assessment form. The interviews/focus groups also will occur two to three times during each of the NIOSH field visits and will take no more than 45 minutes each. All participants will be between the ages of 18 and 75, currently employed, and living in the United States. Participation will require no more than 3 hours of workers' time over the six-week intervention and no more than 2.5 hours of site leaders' time over the six-week intervention period.

There is no cost to respondents other than their time. The total burden in time is an estimated 64 burden hours.

Estimated Annualized Burden Hours
Type of respondent | Form name | Number of respondents | Number responses per respondent | Average burden per response (in hours)
Mine & Health Safety Managers/Leaders | Mine Recruitment and Participation Script | 3 | 1 | 5/60
| Worksite Leadership Interview/Focus Group Guide | 3 | 3 | 45/60
| Controls to Reduce Respirable Dust Exposure Assessment Worksheet for Workers and Management | 3 | 1 | 15/60
Individual Mine Workers | Mine Worker Recruitment Script | 50 | 1 | 5/60
| Pre/Post Mine Worker Survey | 50 | 2 | 15/60
| Mine Worker CPDM Focus Group Guide | 50 | 3 | 30/60
| Controls to Reduce Respirable Dust Exposure Assessment Worksheet for Workers and Management | 50 | 1 | 15/60
| Mine Worker Focus Group Worksheet | 50 | 3 | 15/60

Leroy A. Richardson,
Chief, Information Collection Review Office, Office of Scientific Integrity, Office of the Associate Director for Science, Office of the Director, Centers for Disease Control and Prevention.

[FR Doc. 2015-13383 Filed 6-1-15; 8:45 am]

BILLING CODE 4163-18-P